DEPARTMENT OF STATE

[Public Notice 6289]

Global Financial Management System

SUMMARY: During a review of this agency's operations, a system was identified as being in operation that is not covered by a Privacy Act system of records. Notice is hereby given that the Department of State proposes to create a new system of records, Global Financial Management System, pursuant to the provisions of the Privacy Act of 1974, as amended (5 U.S.C. 552a), and Office of Management and Budget Circular No. A-130, Appendix I. The Department's report relating to this system was filed with the Office of Management and Budget on July 8, 2008.

It is proposed that the new system will be named “Global Financial Management System.” It is also proposed that the new system description will identify the Global Financial Management System (GFMS) as the official financial management system for the Department of State to account for and control appropriated resources and to maintain accounting and financial information associated with the normal operation of government organizations. The routine uses applying to GFMS that provide for disclosure to the Department of the Treasury and the Internal Revenue Service are compatible with the purpose for collecting information that resides in this system because such disclosures enable the appropriate reimbursements to individuals and documentation thereof for purposes of tax compliance.

Any persons interested in commenting on the new Global Financial Management System may do so by submitting comments in writing to Margaret P. Grafeld, Director, Office of Information Programs and Services, A/ISS/IPS, U.S. Department of State, SA-2, Washington, DC 20522-8001. The new system of records for the Global Financial Management System will be effective 40 days from the date of publication, unless comments are received that result in a contrary determination. This new system description will read as set forth below.

Dated: July 8, 2008.
Rajkumar Chellaraj,
Assistant Secretary for the Bureau of Administration, Department of State.

STATE-73

System name:

Global Financial Management System.

Security classification:

Unclassified.

System location:

Department of State, Annex 1, 2201 C Street, NW., Washington, D.C. 20520; Annex 15, 1800 N. Kent Street, Arlington, VA 22209; Charleston Financial Service Center, Building 646A, 1969 Dyess Avenues, Charleston, SC 29408; and overseas at U.S. Embassies, U.S. Consulates General and Consulates.

Categories of individuals covered by the system:

Any individual requiring payment by the Department of State whether for services rendered or for reimbursement of an authorized payment voucher.

Authority for maintenance of system:

Federal Managers' Financial Integrity Act of 1982, Federal Financial Management Improvement Act of 1996 and the Debt Collection Act of 1982 and 1996.

Categories of records in the system:

Names, addresses, telephone numbers, social security numbers, tax identification numbers, employee identification numbers, bank routing and account numbers, loan numbers and receivable reference numbers, and related information.

Purpose:

The Global Financial Management System (GFMS) is the official financial management system for the Department of State to account for and control appropriated resources and to maintain accounting and financial information associated with the normal operation of government organizations. The information in this system is used to make authorized payments for goods and services to companies or individuals doing business with the Department of State, to make authorized reimbursement payments to an employee, to prepare 1099 tax reports, and to account for individual accounts of debts owed to the Department of State or the U.S. Government, in accordance with the Debt Collection Improvement Act of 1996.

Routine uses of records maintained in the system, including categories of users and purposes of such uses:

The principal users of this information outside the Department of State are: (1) Department of Treasury to issue authorized payments to companies and individuals or to issue authorized reimbursement payments to employees; and (2) the Internal Revenue Service and companies or individuals who have received qualifying payments during the tax year as recipients of 1099 reporting. Also see the Department of State's Prefatory Statement of Routine Uses published in the Federal Register.

Disclosure to consumer reporting agencies:

Disclosure made pursuant to 5 U.S.C. 552a(b)(12): Debt information concerning a government claim against an individual may be furnished in accordance with 5 U.S.C. 552a(b)(12) and section 3 of the Debt Collection Act of 1982 (Pub. L. 97-365) to consumer reporting agencies to encourage repayment of an overdue debt.

Policies and practices for storing, retrieving, accessing, retaining and disposing of records in the system:

Storage:

Electronic media and paper records.

Retrievability:

By name, employee identification number, or social security number, consistent with Executive Order 9397 and Section 7 of the Privacy Act.

Safeguards:

All Department of State employees and contractors with authorized access have undergone a thorough background security investigation. Access to the Department and its annexes is controlled by security guards and admission is limited to those individuals possessing a valid identification card or individuals under proper escort. Records containing personal information are maintained in secured file cabinets or in restricted areas, access to which is limited to authorized personnel. Servers are stored in Department of State secured facilities in cipher locked server rooms. Physical access to the server rooms is limited to authorized personnel only. The system is secured with the safeguards required by Office of Management and Budget Memorandum M-07-16 as may be applicable

Retention and disposal:

Records maintenance and disposal is in accordance with National Archives and Records Administration retention schedule, and any supplemental guidance issued by individual components.

System manager and address:

Director, Systems Development and Maintenance, Department of State, P.O. Box 150008, Charleston, SC 29415-5008.

Notification procedure:

Individuals who have reason to believe that the Department of State's Global Financial Management System may have records pertaining to themselves may write the Director, Office of Information Programs and Services, A/ISS/IPS, SA-2, Department of State, 515 22nd Street, NW., Washington, DC 20522-8100.

The individual must specify that he or she wishes the GFMS to be checked. At a minimum, the individual should include: Name, date of birth, current mailing address and zip code, signature; and also a brief description of the circumstances that caused the individual cause to believe that the GFMS has records pertaining to him or her.

Record access and amendment procedures:

Individuals who wish to gain access to or amend records pertaining to them should write to the Director, Office of Information Programs and Services, A/ISS/IPS, SA-2, Department of State, 515 22nd Street, NW., Washington, DC 20522-8100.

Record source categories

These records contain information obtained from the individual who is the subject of these records, from Department of State transactions, and from other U.S. Government agencies.

System exempted from certain provisions of the Privacy Act:

None.

[FR Doc. E8-16161 Filed 7-14-08; 8:45 am]

BILLING CODE 4710-24-P